DEPARTMENT OF TRANSPORTATION

Federal Aviation Administration

14 CFR Part 93

[Docket No. FAA-2007-26470; and Notice No. 08-10]

RIN 2120-AJ29

Proposed Establishment of Special Air Traffic Rule, in the Vicinity of Luke AFB, AZ

AGENCY: Federal Aviation Administration (FAA), DOT.

ACTION: Notice of proposed rulemaking; correction.

SUMMARY: The FAA is correcting its proposed establishment of a Special Air Traffic Rule, in the vicinity of Luke AFB, AZ. The purpose of the NPRM was to address reported near midair collisions in the area around Luke and to help reduce the potential for midair collisions in the vicinity of Luke. In the preamble the docket number was incorrect. This document corrects the error. The old docket number FAA-2007-26470 is being changed to FAA-2008-1087.

DATES: Comments must be received on or before December 15, 2008. The original comment period was scheduled to end on November 25, 2008.

ADDRESSES: You may send comments identified by Docket Number FAA-2008-1087 using any of the following methods:

• Federal eRulemaking Portal: Go to http://www.regulations.gov and follow the online instructions for sending your comments electronically.

• Mail: Send comments to Docket Operations, M-30; U.S. Department of Transportation, 1200 New Jersey Avenue, SE., Room W12-140, West Building Ground Floor, Washington, DC 20590-0001.

• Hand Delivery or Courier: Bring comments to Docket Operations in Room W12-140 of the West Building Ground Floor at 1200 New Jersey Avenue, SE., Washington, DC, between 9 a.m. and 5 p.m., Monday through Friday, except Federal holidays.

• Fax: Fax comments to Docket Operations at 202-493-2251.

For more information on the rulemaking process, see the SUPPLEMENTARY INFORMATION section of this document.

Privacy: We will post all comments we receive, without change, to http://www.regulations.gov, including any personal information you provide. Using the search function of our docket Web site, anyone can find and read the electronic form of all comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time and follow the online instructions for accessing the docket. Or, go to Docket Operations in Room W12-140 of the West Building Ground Floor at 1200 New Jersey Avenue, SE., Washington, DC, between 9 a.m. and 5 p.m., Monday through Friday, except Federal holidays.

FOR FURTHER INFORMATION CONTACT: For technical questions concerning this proposed rule contact Ken McElroy, Airspace and Rules Group, Office of System Operations Airspace and AIM, AJR-33 Federal Aviation Administration, 800 Independence Avenue, SW., Washington, DC 20591; telephone: (202) 267-8783. For legal questions contact Adrianne Wojcik, Office of Chief Counsel, Regulations Division, Air Traffic & Certification of Airman Law Branch, AGC-240 Federal Aviation Administration, 800 Independence Avenue, SW., Washington, DC 20591; telephone: (202) 267-7776.

SUPPLEMENTARY INFORMATION:

Background

On September 26, 2008 (73 FR 55788), we published an NPRM concerning the issuance of a Special Air Traffic Rule for Luke Air Force Base in Arizona. The Docket Number assigned to the NPRM was incorrectly shown as FAA-2007-26470, which was already assigned to a different docket. Because of this error the public may have had difficulty submitting comments to the public docket. Therefore we are providing a new Docket Number, FAA-2008-1087 and extending the comment period for the NPRM.

The Correction

In the proposed rule FR Doc. E8-22568 published on September 26, 2008 (73 FR 55788), make the following correction. On page 55788, in the third column, in the document heading, correct the docket number to read “FAA-2008-1087”.

Issued in Washington, DC, on October 8, 2008.
Pamela Hamilton-Powell,
Director, Office of Rulemaking.

[FR Doc. E8-24373 Filed 10-14-08; 8:45 am]

BILLING CODE 4910-13-P